DEPARTMENT OF TRANSPORTATION

Federal Aviation Administration

14 CFR Part 71

Proposed Establishment of Class C Airspace at Wilmington International Airport, NC; Public Meeting

AGENCY: Federal Aviation Administration (FAA), DOT.

ACTION: Notice of meeting.

SUMMARY: This document announces a fact-finding informal airspace meeting regarding a plan to establish Class C airspace at Wilmington International Airport, NC (KILM). The purpose of the meeting is to solicit aeronautical comments on the proposal's effects on local aviation operations. All comments received during the meeting, and the subsequent comment period, will be considered prior to the issuance of a notice of proposed rulemaking (NPRM).

DATES: The meeting will be held virtually on October 1, 2025, from 5:00 p.m. to 7:00 p.m. (Eastern Time). Comments must be received on or before October 31, 2025.

ADDRESSES: Comments: Send comments on the proposal to: Matthew Cathcart, Manager, Operations Support Group, Eastern Service Center, Air Traffic Organization, Federal Aviation Administration, 1701 Columbia Avenue, College Park, GA 30337; or via email to: 9-AJO-ILM-Class-C-Comments@faa.gov.

FOR FURTHER INFORMATION CONTACT: Clayton Smith, Acting Air Traffic Manager, Wilmington Airport Traffic Control Tower, 2220 Control Tower Drive, Wilmington, NC 28405-8895. Telephone Number 910-815-4642, Email: clayton.j.smith@faa.gov.

SUPPLEMENTARY INFORMATION:

Meeting Procedures

The meeting will provide interested parties an opportunity to present views, recommendations, and comments on the proposed airspace. This will be a virtual informal airspace meeting using the Zoom teleconferencing tool. The meeting will also be recorded and available to watch on the FAA YouTube channel.

(a) Registration: To attend the meeting, the public can register here: https://airportnetwork.zoom.us/webinar/register/WN_OOInhwMFT4KDHTL1t9tS2Q#/registration.

(b) The meeting will be informal in nature and will be conducted by one or more representatives of the FAA Eastern Service Area. A representative from the FAA will present a briefing on the planned airspace.

(c) Each participant will be given an opportunity to deliver comments or make a presentation, although a time limit may be imposed to accommodate closing times. Only comments concerning the plan to establish the Wilmington International Airport Class C airspace area will be accepted.

(d) Each person wishing to make a presentation will be asked to note their intent when registering for the meeting so those time frames can be established. This meeting will not be adjourned until everyone registered to speak has had an opportunity to address the panel. This meeting may be adjourned at any time if all persons present have had an opportunity to speak.

(e) This meeting will be formally recorded and available on the FAA YouTube channel. A summary of the comments made at the meeting will be filed in the rulemaking docket.

Information gathered through this meeting will assist the FAA in drafting an NPRM that would be published in the Federal Register. The public will be afforded the opportunity to comment on any NPRM published on this matter.

A graphic depiction of the proposed airspace modifications may be viewed at the following URL: www.faa.gov/go/wilmington.

Agenda for the Meeting

• Presentation of Meeting Procedures

• Informal Presentation of the proposed Class C Airspace area

• Public Presentations

• Discussions and Questions

• Closing Comments

(Authority: 49 U.S.C. 106(f), 106(g), 40103, 40113, 40120; E.O.10854, 24 FR 9565, 3 CFR, 1959-1963 Comp., p. 389)

Issued in Washington, DC, on August 13, 2025.
Brian Eric Konie,
Acting Manager, Rules and Regulations Group.

[FR Doc. 2025-15643 Filed 8-15-25; 8:45 am]

BILLING CODE 4910-13-P